NUCLEAR REGULATORY COMMISSION

[Docket Nos. 50-387-OLA and 50-388-OLA; ASLBP No. 07-854-01-OLA-BD01]

PPL Susquehanna LLC; Establishment of Atomic Safety and Licensing Board

Pursuant to delegation by the Commission dated December 29,1972, published in the Federal Register, 37 FR 28,710 (1972), and the Commission's regulations, see 10 CFR 2.104, 2.300, 2.303, 2.309, 2.311, 2.318, and 2.321, notice is hereby given that an Atomic Safety and Licensing Board is being established to preside over the following proceeding: PPL Susquehanna LLC (Susquehanna Steam Electric Station, Units 1 and 2).

This proceeding concerns a May 11, 2007 Petition to Intervene/Request for Hearing submitted by Eric Joseph Epstein in response to a March 13, 2007 Notice of Consideration of Issuance of Amendments to Facility Operating Licenses, Proposed No Significant Hazards Consideration Determination, and Opportunity for a Hearing (72 FR 11,383, 11,392). The Petition to Intervene/Request for Hearing challenges the request of PPL Susquehanna LLC to amend the operating license for the Susquehanna Steam Electric Station, Units 1 and 2, to increase thermal power to 3,952 megawatts thermal, which is 20% above the original rated thermal power of 3,293 megawatts thermal, and approximately 13% above the current rated thermal power of 3,489 megawatts thermal.

The Board is comprised of the following administrative judges:

G. Paul Bollwerk, III, Chair, Atomic Safety and Licensing Board Panel, U.S. Nuclear Regulatory Commission, Washington, DC 20555-0001.

Dr. Richard F. Cole, Atomic Safety and Licensing Board Panel, U.S. Nuclear Regulatory Commission, Washington, DC 20555-0001.

Dr. Lester S. Rubenstein, Atomic Safety and Licensing Board Panel, U.S. Nuclear Regulatory Commission, Washington, DC 20555-0001.

All correspondence, documents, and other materials shall be filed with the administrative judges in accordance with 10 CFR 2.302.

Issued at Rockville, Maryland, this 31st day of May 2007.
E. Roy Hawkens,
Chief Administrative Judge, Atomic Safety and Licensing Board Panel.

[FR Doc. E7-11008 Filed 6-6-07; 8:45 am]

BILLING CODE 7590-01-P